DEPARTMENT OF HEALTH AND HUMAN SERVICES

National Institutes of Health

Center for Scientific Review; Amended Notice of Meeting

Notice is hereby given of a change in the meeting of the Diseases and Pathophysiology of the Visual System Study Section, October 24, 2013, 08:00 a.m. to October 25, 2013, 05:00 p.m., Renaissance M Street Hotel, 1143 New Hampshire Avenue NW., Washington, DC 20037 which was published in the Federal Register on October 01, 2013, 78 FR 60298.

The meeting will be held on November 25-26, 2013 at the Embassy Suites Chevy Chase Pavilion, 4300 Military Road NW., Washington, DC 20015. The meeting time remains the same. The meeting is closed to the public.

Dated: October 28, 2013.
Anna Snouffer,
Deputy Director, Office of Federal Advisory Committee Policy.

[FR Doc. 2013-25910 Filed 10-30-13; 8:45 am]

BILLING CODE 4140-01-P